DEPARTMENT OF HEALTH AND HUMAN SERVICES

Centers for Disease Control and Prevention

Fees for Sanitation Inspections of Cruise Ships

AGENCY: Centers for Disease Control and Prevention (CDC), Department of Health and Human Services (HHS).

ACTION: Request for public comment on proposed modification of fee structure for vessel sanitation inspections beginning fiscal year 2007.

SUMMARY: CDC began charging fees to conduct sanitation inspections of cruise vessels in 1988. The purpose of these charges is to recover full costs of operating the Vessel Sanitation Program. CDC is requesting comments to the modified fee schedule; the modified fee schedule includes an additional vessel size, the “mega-sized” vessel, for any vessel that is greater than 120,000 Gross Registered Tons (GRT). A modified fee schedule would go into effect in the beginning of the next fiscal year, October 2007.

DATE: Submit all comments on or before August 1, 2006.

ADDRESSES: Send comments to: David L. Forney, Chief, Vessel Sanitation Program, National Center for Environmental Health/VSP, Centers for Disease Control, 4770 Buford Highway, NE., Mailstop F-23, Atlanta, Georgia 30341-3724; Telephone: (770) 488-7333; E-mail: Dforney@cdc.gov.

SUPPLEMENTARY INFORMATION:

Purpose

The purpose of revising the fee schedule is to cover increasing operational costs of the Vessel Sanitation Program. Because of the significant increase in complexity and size, mega-category vessels will require more inspectors in order to conduct a comprehensive sanitation inspection within the timeframe that a vessel is in port. Currently, the extra large category (i.e. all ships greater than 60,000 GRT) is the largest vessel category in the fee schedule. When the schedule was created in 1988, no vessels larger than 60,000 GRT existed. VSP is proposing the revised fee schedule to accommodate the current trends in vessel size and complexity.

Proposed Modifications to the Fee Schedule

The proposed modification to the fee schedule adds a mega-category ship which includes any vessel greater than 120,000 GRT. In 2007, approximately eight ships will meet this criterion.

Formula for the Fee Schedule

The formula used to determine the fees is as follows:

2. Average cost per inspection x Approximate cost ($US) Per GRT = per-ship inspection cost.

To get the per-ship inspection cost:

1. Divide the total operating cost of VSP by estimated number of inspections to get the average cost per inspection and then;

2. Multiply the average inspection cost by a factor based on the ship size/cost factor to arrive at an approximate per-ship inspection cost.

The size/cost factor was established in the proposed fee schedule published in the Federal Register on July 17, 1987 (52 FR 27060), and revised in a schedule published in the Federal Register on November 28, 1989 (54 FR 48942). The proposed revised size/cost factor is presented in Appendix A.

Background

The CDC conducts sanitation inspections of passenger cruise ships under 42 CFR 71.41.

The fee schedule for sanitation inspections of passenger cruise ships inspected under the Vessel Sanitation Program (VSP) was first published in the Federal Register on November 24, 1987 (52 FR 45019), and CDC began collecting fees on March 1, 1988. The fee structure covers the operating cost of the VSP which includes salaries, benefits, travel and per diem, supplies, contract services, printing, shipping, average equipment and instrument requirements, and appropriate support costs.

Applicability

The fees will apply to all passengers cruise vessels for which inspections are conducted as part of CDC's VSP.

Dated: June 20, 2006.
James D. Seligman,
Chief Information Officer, Centers for Disease Control and Prevention (CDC).

Appendix A

Size/Cost Factor
Vessel size | GRT ¹ | Approximate cost ($US) per GRT
Extra Small | < 3,001 | 0.25
Small | 3,001-15,000 | 0.50
Medium | 15,001-30,000 | 1.00
Large | 30,001-60,000 | 1.50
Extra Large | 60,000-120,000 | 2.00
Mega* | >120,001 | 2.50
*New Vessel Size Category.
¹ Gross register tonnage in cubic feet, as shown in Lloyd's Register of Shipping.

Example Fee Schedule
[Based on fiscal year 2006 Fees]
Vessel size | GRT ¹ | Fee ($U.S.)
Extra Small | < 3,000 | 1,300
Small | 3,001-15,000 | 2,600
Medium | 15,001-30,000 | 5,200
Large | 30,001-60,000 | 7,800
Extra Large | 60,001-120,000 | 10,400
Mega* | >120,001 | 15,600
*New Vessel Size Category.
¹ Gross register tonnage in cubic feet, as shown in Lloyd's Register of Shipping.

Inspections and reinspections involve the same procedure, require the same amount of time, and are therefore charged at the same rate.

[FR Doc. E6-10174 Filed 6-27-06; 8:45 am]

BILLING CODE 4163-18-P